DEPARTMENT OF LABOR

Employment and Training Administration

[TA-W-81,558]

Healthcare Corporation of America (HCA), HCA Mountain Division Including Workers Whose Wages Were Reported Through Mountainstar Health, Inc. Including Workers Whose Wages Were Reported Through Health Trust Utah Management Services, Inc. Cottonwood Heights, UT; Amended Certification Regarding Eligibility To Apply for Worker Adjustment Assistance

In accordance with Section 223 of the Trade Act of 1974, as amended (“Act”), 19 U.S.C. 2273, the Department of Labor issued a Certification of Eligibility to Apply for Worker Adjustment Assistance on August 3, 2012, applicable to workers of Healthcare Corporation of America (HCA), HCA Mountain Division, Cottonwood Heights, Utah (subject firm). The workers' firm is engaged in activities related to the supply of medical transcription services. The subject worker group includes workers whose wages are reported through MountainStar Health, Inc. and off-site workers who report to Cottonwood Heights, Colorado.

At the request of the State of Utah, the Department reviewed the certification for workers of the subject firm.

New information revealed that some workers separated from the subject firm had wages reported under the company name Health Trust Utah Management Services, Inc.

The amended notice applicable to TA-W-81,558 is hereby issued as follows:

All workers of Healthcare Corporation of America (HCA), HCA Mountain Division, including workers whose wages are reported through MountainStar Health, Inc., and including workers whose wages are reported through Health Trust Utah Management Services, Inc., Cottonwood Heights, Utah, who became totally or partially separated from employment on or after April 30, 2011 through August 3, 2014, and all workers in the group threatened with total or partial separation from employment on August 3, 2012 through August 3, 2014, are eligible to apply for adjustment assistance under Chapter 2 of Title II of the Trade Act of 1974, as amended.

Signed in Washington, DC, this 18th day of September 2012.
Del Min Amy Chen,
Certifying Officer, Office of Trade Adjustment Assistance.

[FR Doc. 2012-24059 Filed 9-28-12; 8:45 am]

BILLING CODE 4510-FN-P